DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Pacific Islands Pelagic Squid Jig Fishing Permit.

OMB Control Number: 0648-0589.

Form Number(s): None.

Type of Request: Regular (revision and extension of a currently approved information collection).

Number of Respondents: 5.

Average Hours Per Response: Permit applications and renewals, 15 minutes; appeals, 2 hours.

Burden Hours: 3.

Needs and Uses: This request is for revision and extension of a currently approved information collection.

Federal regulations at Title 50, part 665, of the Code of Federal Regulations require that owners of vessels fishing for, or landing, pelagic squid in the western Pacific region obtain a permit from NOAA Fisheries Service (NMFS). In this revision/extension, the vessel ID requirements have been incorporated into Pacific Islands Region Vessel and Gear Identification Requirements (OMB Control No. 0648-0360) and the reporting requirement is being moved to Pacific Islands Logbook Family of Forms (OMB Control No. 0648-0214). There have also been minor changes to the permit application form, and instructions added.

Affected Public: Business or other for-profit organizations.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sarah Brabson,
NOAA PRA Clearance Officer.

[FR Doc. 2015-18158 Filed 7-23-15; 8:45 am]

BILLING CODE 3510-22-P